Title 3—

The President

Memorandum of July 22, 2010

Designation of the National Science and Technology Council to Coordinate Certain Activities Under the Arctic Research and Policy Act of 1984

Memorandum for the Director of the Office of Science and Technology Policy

By the authority vested in me as President by the Constitution and the laws of the United States, including the Arctic Research and Policy Act of 1984 (Title I of Public Law 98-373) (the “Act”), I hereby assign to the National Science and Technology Council (NSTC) responsibility to coordinate activities assigned in sections 107 and 108 of the Act to the Interagency Arctic Research Policy Committee, including through committees of the NSTC.

The Director of the Office of Science and Technology Policy is authorized and directed to publish this memorandum in the Federal Register.

THE WHITE HOUSE,

Washington, July 22, 2010.

[FR Doc. 2010-18642

Filed 7-27-10; 8:45 am]

Billing code 3170-W0-P